DEPARTMENT OF DEFENSE

Defense Acquisition Regulations System

48 CFR Part 242

RIN 0750-AH52

Defense Federal Acquisition Regulation Supplement; DoD Voucher Processing (DFARS Case 2011-D054)

AGENCY: Defense Acquisition Regulations System, Department of Defense (DoD).

ACTION: Proposed rule; clarification.

SUMMARY: DoD is clarifying the rule published on January 19, 2012, proposing to amend the Defense Federal Acquisition Regulation Supplement (DFARS) to update DoD's voucher processing procedures and better accommodate the use of Wide Area WorkFlow to process vouchers.

DATES: Comments on the proposed rule published January 19, 2012, at 77 FR 2682, continue to be accepted until March 19, 2012.

FOR FURTHER INFORMATION CONTACT: Mr. Mark Gomersall, Defense Acquisition Regulations System, OUSD (AT&L) DPAP (DARS), Room 3B855, 3060 Defense Pentagon, Washington, DC 20301-3060. Telephone 703-602-0302; facsimile 703-602-0350.

SUPPLEMENTARY INFORMATION: DoD is clarifying the proposed rule published on January 19, 2012 (77 FR 2682), which proposes to revise requirements for approving interim vouchers. Interim vouchers that are selected using risk-based sampling methodologies will be reviewed and approved by the contract auditors for provisional payment and sent to the disbursing office after the pre-payment review. Interim vouchers not selected for a pre-payment review will be considered acceptable for payment and will be sent directly to the disbursing office. All interim vouchers are subject to an audit of actual costs incurred after payment. The sampling process will be accomplished largely within the Wide Area WorkFlow system.

The rule proposes to revise the requirements for approving interim vouchers by replacing the direct submission process currently referenced at DFARS 242.803(b)(i)(C) with a risk-based sampling process. The proposed risk-based sampling process is a more effective and efficient approach. It allows for the evaluation of selected interim vouchers on a pre-payment basis in lieu of the current direct submission authorization, which does not allow for the pre-payment evaluation of higher risk interim vouchers. It is anticipated that the revised process will provide a more comprehensive sample of all vouchers and an enhanced oversight of higher risk vouchers, while allowing a more efficient processing of the vouchers not selected for pre-payment review.

List of Subjects in 48 CFR Part 242

Government procurement.

Ynette R. Shelkin,
Editor, Defense Acquisition Regulations System.

[FR Doc. 2012-3659 Filed 2-16-12; 8:45 am]

BILLING CODE 5001-06-P